DEPARTMENT OF THE INTERIOR

Bureau of Land Management

[LLMTL06000-L14400000.ET0000 15XL1109AF; MTM 89170; MO#4500079994]

Public Land Order No. 7841; Extension of Public Land Order No. 7464; Montana

AGENCY: Bureau of Land Management, Interior.

ACTION: Public Land Order.

SUMMARY: This order extends the duration of the withdrawal created by Public Land Order No. 7464, as corrected, for an additional 5 year period. The extension is necessary to continue the protection of the reclamation of the Zortman-Landusky mining area. The Public Land Order (PLO) would otherwise expire on October 4, 2015.

DATES: Effective Date: October 5, 2015.

FOR FURTHER INFORMATION CONTACT: Micah Lee, Bureau of Land Management, Havre Field Office, 3990 HWY 2 West, Havre, Montana 59501, 406-262-2851, or Cynthia Eide, Bureau of Land Management, Montana State Office, 5001 Southgate Drive, Billings, Montana 59101-4669, (406) 896-5094. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: PLO No. 7464 established the withdrawal to protect the reclamation of the Zortman-Landusky mining area. The purpose for which the withdrawal was first made requires this extension to continue protection of the mining area until reclamation is complete. The withdrawal has been corrected (65 FR 63619 (2000)) and extended twice by Public Land Order Nos. 7643 (70 FR 49944 (2005)) and 7753 (75 FR 63856 (2010)).

Order

By virtue of the authority vested in the Secretary of the Interior by Section 204 of the Federal Land Policy and Management Act of 1976, 43 U.S.C. 1714, it is ordered as follows:

1. Public Land Order No. 7464 (65 FR 59463 (2000)), as corrected (65 FR 63619 (2000)) and extended by Public Land Order Nos. 7643 (70 FR 49944 (2005)) and 7753 (75 FR 63856 (2010)), which withdrew 3,530.62 acres of public land from settlement, sale, location, or entry under the general land laws, including the United States mining laws (30 U.S.C. Ch. 2), to protect the Zortman-Landusky Mining Area, is hereby further extended for an additional 5-year period until October 4, 2020.

2. Public Land Order No 7464 will expire October 4, 2020, unless, as a result of a review conducted prior to the expiration date pursuant to Section 204(f) of the Federal Land Policy and Management Act of 1976, 43 U.S.C. 1714(f), the Secretary determines that the withdrawal shall be further extended.

Dated: September 19, 2015.
Janice M. Schneider,
Assistant Secretary—Land and Minerals Management.

[FR Doc. 2015-25285 Filed 10-2-15; 8:45 am]

BILLING CODE 4310-DN-P